DEPARTMENT OF COMMERCE

National Institute of Standards and Technology

Announcement of Public Meeting of the National Conference on Weights and Measures

SUMMARY: Notice is hereby given that the annual meeting of the National Conference on Weights and Measures will be held July 13 through July 17, 2003, at the John Ascuaga's Nugget Hotel, Sparks, Nevada. This meeting is open to the public. The National Conference on Weights and Measures is an organization of weights and measures enforcement officials of the States, counties, and cities of the United States, and private sector representatives. The annual meeting of the Conference brings together enforcement officials, other government officials, and representatives of business, industry, trade associations, and consumer organizations to discuss subjects that related to the field of weights and measures technology and administration. Pursuant to (15 U.S.C. 272 (b) (6)), the National Institute of Standards and Technology supports the National Conference on Weights and Measures in order to promote uniformity among the States in the complexity of laws, regulations, methods, and testing equipment that comprises regulatory control by the States of commercial weighing and measuring.

DATES: July 13-17, 2003.

ADDRESSES: John Ascuaga's Nugget Hotel, Sparks, Nevada.

FOR FURTHER INFORMATION CONTACT: Henry V. Oppermann, Chief, NIST, Weights and Measures Division, 100 Bureau Drive, Stop 2600, Gaithersburg, MD 20899-2600. Telephone (301) 975-4004, or email: owm@nist.gov.

Dated: June 17, 2003.
Karen H. Brown,
Deputy Director.

[FR Doc. 03-15873 Filed 6-23-03; 8:45 am]

BILLING CODE 3510-CN-P